DEPARTMENT OF COMMERCE

National Oceanic and Atmospheric Administration

[Docket No. 041014282-4282-01]

Hydrologic Research

AGENCY: National Weather Service (NWS), National Oceanic and Atmospheric Administration (NOAA), Department of Commerce (DOC).

ACTION: Notice and request for proposals.

SUMMARY: This program represents a NOAA/NWS effort to create a cost-effective continuum of basic and applied research through collaborative research between the Hydrology Laboratory of the NWS Office of Hydrologic Development and academic communities or other private or public agencies which have expertise in the hydrometeorologic, hydrologic, and hydraulic routing sciences. These activities will engage researchers and students in basic and applied research to improve the scientific understanding of river forecasting. Ultimately these efforts will improve the accuracy of forecasts and warnings of rivers and flash floods by applying scientific knowledge and information to NWS research methods and techniques, resulting in a benefit to the public. NOAA's program is designed to complement other agency contributions to that national effort. The Office of Hydrologic Development requests that interested organizations prepare a pre-proposal, to be followed by a full-proposal. Pre-proposal submission is required in order to submit a full proposal.

DATES: Pre-proposals must be received by the NWS no later than 3 p.m., Eastern Standard Time, December 17, 2004. A notice of the review results will be sent, encouraging or discouraging full proposal submissions. The due date for the full proposal submission will be contained in the notice.

ADDRESSES: Pre-proposals may be submitted through electronic e-mail to Pedro.Restrepo@noaa.gov. Pre-proposals submitted in hard copy must be submitted by postal mail, commercial delivery service, or hand-delivery to Pedro Restrepo, NOAA/NWS; 1325 East-West Highway, Room 8346, phone number 301-713-0640, ext. 210; Silver Spring, Maryland 20910-3283. Full proposals should be submitted through Grants.gov APPLY, however, full proposals may be submitted in hard copy and sent to Pedro Restrepo, NOAA/NWS; 1325 East-West Highway, Room 8346, phone number 301-713-0640, ext. 210; Silver Spring, Maryland 20910-3283. The full text of the funding opportunity announcement for this NWS program can be accessed via the Grants.gov FIND Web site: http://www.grants.gov. This announcement will also be available at the NOAA Web site: http://www.ofa.noaa.gov/%7Eamd/SOLINDEX.HTML or by contacting the program official identified in FOR FURTHER INFORMATION CONTACT.

FOR FURTHER INFORMATION CONTACT: Dr. Pedro Restrepo by phone at 301-713-0640 ext. 210, or fax to 301-713-0963, or via Internet at Pedro.Restrepo@noaa.gov.

SUPPLEMENTARY INFORMATION: This program represents a NOAA/NWS effort to create a cost-effective partnership through collaborative basic and applied research between the Hydrology Laboratory of the NWS Office of Hydrologic Development and academic communities or other private or public agencies which have expertise in the hydrometerologic, hydrologic, and hydraulic routing sciences. These activities will engage researchers and students in basic and applied research to improve the scientific understanding of river forecasting. Ultimately these efforts will improve the accuracy of forecasts and warnings of rivers and flash floods by applying scientific knowledge and information to NWS research methods and techniques, resulting in a benefit to the public. NOAA's program is designed to complement other agency contributions to that national effort. A detailed description for each program priority is in the funding opportunity announcement which can be accessed via the Grants.gov Web site, the NOAA Web site at http://www.ofa.noaa.gov/%7Eamd/SOLINDEX.HTML, or by contacting the program official identified in FOR FURTHER INFORMATION CONTACT.

Electronic Access

The full text of the funding opportunity announcement for this NWS program can be accessed via the Grants.gov FIND Web site. This announcement will also be available at the NOAA Web site: http://www.ofa.noaa.gov/%7Eamd/SOLINDEX.HTML or by contacting the program official identified under FOR FURTHER INFORMATION CONTACT. This Federal Register notice is available through the NOAA home page at: http://www.noaa.gov/.

Statutory Authority: 15 U.S.C. 313.

CFDA

11.462, Hydrologic Research.

Funding Availability

Proposals shall be prepared assuming an annual budget of no more than $125,000. It is expected that approximately four awards will be made, depending on availability of funds. This program announcement is for projects to be conducted by research investigators for a 1-year, 2-year, or 3-year period. When a proposal for a multi-year award is approved, funding will initially be provided for only the first year of the program.

Eligibility

Eligible applicants are Federal agencies, institutions of higher education, other nonprofits, commercial organizations, foreign governments, organizations under the jurisdiction of foreign governments, and international organizations, state, local and Indian tribal governments. Applications from non-Federal and Federal applicants will be competed against each other. Proposals selected for funding from non-Federal applicants will be funded through a project grant or cooperative agreement under the terms of this notice. Proposals selected for funding from NOAA scientists shall be effected by an intra-agency fund transfer. Proposals selected for funding from a non-NOAA Federal agency will be funded through an inter-agency transfer. PLEASE NOTE: Before non-NOAA Federal applicants may be funded, they must demonstrate that they have legal authority to receive funds from another Federal agency in excess of their appropriation. Because this announcement is not proposing to procure goods or services from applicants, the Economy Act (31 U.S.C. 1535) is not an appropriate legal basis.

Cost Sharing Requirements

None.

Evaluation and Selection Procedures

NOAA published its agency-wide solicitation entitled “Omnibus Notice Announcing the Availability of Grant Funds for Fiscal Year 2005” for projects and fellowships/scholarship/internships for Fiscal Year 2005 in the Federal Register on June 30, 2004 (69 FR 39417). The evaluation criteria and selection procedures for projects contained in that omnibus notice are applicable to this solicitation. Copies of the notice are available on the Internet at: http://www.ofa.noaa.gov%7Eamd/SOLINDEX.HTML. A pre-proposal submission is required in order to submit a full proposal. The notice discouraging the submission of a full proposal does not preclude a full proposal submission.

Intergovernmental Review

Applications under this program are not subject to Executive Order 12372, “Intergovernmental Review of federal programs.”

Limitation of Liability

In no event will NOAA or the Department of Commerce be responsible for proposal preparation costs if this program is cancelled because of other agency priorities. Publication of this announcement does not oblige NOAA to award any specific project or to obligate any available funds. Applicants are hereby given notice that funding for the Fiscal Year 2005 program is contingent upon the availability of Fiscal Year 2005 appropriations.

Universal Identifier

Applicants should be aware they are required to provide a Dun and Bradstreet Data Universal Numbering System (DUNS) number during the application process. See the October 30, 2002, Federal Register, (67 FR 66177) for additional information. Organizations can receive a DUNS number at no cost by calling the dedicated toll-free DUNS Number request line at 1-866-705-5711 or via the Internet at http://www.dunandbradstreet.com.

National Environmental Policy Act (NEPA)

NOAA must analyze the potential environmental impacts, as required by NEPA, for applicant projects or proposals which are seeking NOAA Federal assistance. Detailed information on NOAA compliance with NEPA can be found at the following Web site: http://www.nepa.noaa.gov including NOAA Administrative Order 216-6 for NEPA at http://www.nepa.noaa.gov/NAO216l6lTOC.pdf, and the Council on Environmental Quality implementation regulations at http://ceq.eh.doe.gov/nepa/regs/ceq/toclceq.htm. Consequently, as part of an applicant's package under the description of their program activities, applicants are required to provide detailed information on the activities to be conducted, locations, sites, species, and habitat to be affected, possible construction activities, and any environmental concerns that may exist (e.g., the use and disposal of hazardous or toxic chemicals, introduction of nonindigenous species, impacts to endangered and threatened species, aquaculture projects, and impacts to coral reef systems). In addition to providing specific information that will serve as the basis for any required impact analysis, applicants may also be requested to assist NOAA in drafting an environmental assessment, if NOAA determines an assessment is required. Applicants will also be required to cooperate with NOAA in identifying and implementing feasible measures to reduce or avoid any identified adverse environmental impacts of their proposal. The failure to do so shall be grounds for the denial of an application.

The Department of Commerce Preaward Notification Requirements for Grants and Cooperative Agreements contained in the Federal Register notice of October 1, 2001 (66 FR 49917), as amended by the Federal Register notice published on October 30, 2002 (67 FR 66109), are applicable to this solicitation.

Paperwork Reduction Act

This document contains collection-of-information requirements subject to the Paperwork Reduction Act (PRA). The use of Standard Forms 424, 424A, 424B, and SF-LLL, and CD-346 has been approved by the Office of Management and Budget (OMB) under the respective control numbers 0348-0043, 0348-0044, 0348-0040, 0348-0046, and 0605-0001. Notwithstanding any other provision of law, no person is required to, nor shall a person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: October 29, 2004.
David L. Johnson,
Assistant Administrator for Weather Services.

[FR Doc. 04-24750 Filed 11-4-04; 8:45 am]

BILLING CODE 3510-22-P